DEPARTMENT OF EDUCATION

Federal Pell Grant, Academic Competitiveness Grant, National Science and Mathematics Access To Retain Talent Grant, Federal Perkins Loan, Federal Work-Study, Federal Supplemental Educational Opportunity Grant, Federal Family Education Loan, and William D. Ford Federal Direct Loan Programs

AGENCY: Federal Student Aid, U.S. Department of Education.

ACTION: Notice of revision of the Federal Need Analysis Methodology for the 2008-2009 award year.

SUMMARY: The Secretary announces the annual updates to the tables that will be used in the statutory “Federal Need Analysis Methodology” to determine a student's expected family contribution (EFC) for award year 2008-2009 for the student financial aid programs authorized under Title IV of the Higher Education Act of 1965, as amended (HEA). An EFC is the amount a student and his or her family may reasonably be expected to contribute toward the student's postsecondary educational costs for purposes of determining financial aid eligibility. The Title IV programs include the Federal Pell Grant, Academic Competitiveness Grant, National Science and Mathematics Access to Retain Talent Grant, Federal Perkins Loan, Federal Work-Study, Federal Supplemental Educational Opportunity Grant, Federal Family Education Loan, and William D. Ford Federal Direct Loan Programs (Title IV HEA Programs).

FOR FURTHER INFORMATION CONTACT: Ms. Marya Dennis, Management and Program Analyst, U.S. Department of Education, Union Center Plaza, 830 First Street, NE., Washington, DC 20202. Telephone: (202) 377-3385. If you use a telecommunications device for the deaf (TDD), you may call the Federal Relay Service (FRS) at 1-800-877-8339.

Individuals with disabilities may obtain this document in an alternative format (e.g., Braille, large print, audiotape or computer diskette) on request to the contact person listed in the preceding paragraph.

SUPPLEMENTARY INFORMATION: Part F of Title IV of the HEA specifies the criteria, data elements, calculations, and tables used in the Federal Need Analysis Methodology EFC calculations.

Section 478 of Part F of Title IV requires the Secretary to adjust four of the tables—the Income Protection Allowance, the Adjusted Net Worth of a Farm or Business, the Education Savings and Asset Protection Allowance, and the Assessment Schedules and Rates—each award year to adjust for general price inflation. The changes are based, in general, upon increases in the Consumer Price Index.

For award year 2008-2009 the Secretary is charged with updating the income protection allowance, adjusted net worth of a business or farm, and the assessment schedules and rates to account for inflation that took place between December 2006 and December 2007. However, because the Secretary must publish these tables before December 2007, the increases in the tables must be based upon a percentage equal to the estimated percentage increase in the Consumer Price Index for All Urban Consumers for 2006. The Secretary estimates that the increase in the Consumer Price Index for All Urban Consumers (CPI-U) for the period December 2006 through December 2007 will be 2.8 percent. Additionally, the Higher Education Reconciliation Act of 2005 (HERA, Pub. L. 109-171) modified the updating procedure for the income protection allowance for dependent students and the income protection allowance tables for both independent students with dependents other than a spouse and independent students without dependents other than a spouse. HERA established new 2007-08 award year values for these income protection allowances, which are being updated for the 2008-09 award year using the Secretary's estimated inflation rate of 2.8 percent. The updated tables are in sections 1, 2, and 4 of this notice.

The Secretary must also revise, for each award year, the education savings and asset protection allowances as provided for in section 478(d) of the HEA. The Education Savings and Asset Protection Allowance table for award year 2008-2009 has been updated in section 3 of this notice. Section 478(h) of the HEA also requires the Secretary to increase the amount specified for the Employment Expense Allowance, adjusted for inflation. This calculation is based upon increases in the Bureau of Labor Statistics budget of the marginal costs for a two-worker family compared to a one-worker family for food away from home, apparel, transportation, and household furnishings and operations. The Employment Expense Allowance table for award year 2008-2009 has been updated in section 5 of this notice.

The HEA provides for the following annual updates:

1. Income Protection Allowance. This allowance is the amount of living expenses associated with the maintenance of an individual or family that may be offset against the family's income. It varies by family size. The income protection allowance for the dependent student is $3,080. The income protection allowances for parents of dependent students for award year 2008-2009 are:

Parents of Dependent Students
Family size | Number in college: 1 | Number in college: 2 | Number in college: 3 | Number in college: 4 | Number in college: 5
2 | $15,380 | $12,750
3 | 19,150 | 16,540 | $13,900
4 | 23,660 | 21,020 | 18,410 | $15,770
5 | 27,910 | 25,280 | 22,660 | 20,030 | $17,410
6 | 32,650 | 30,010 | 27,400 | 24,770 | 22,150

For each additional family member add $3,680.

For each additional college student subtract $2,620.

The income protection allowances for independent students with dependents other than a spouse for award year 2008-2009 are:

Independent Students With Dependents Other Than a Spouse
Family size | Number in college: 1 | Number in college: 2 | Number in college: 3 | Number in college: 4 | Number in college: 5
2 | $15,750 | $13,060 |  |  |
3 | 19,610 | 16,930 | $14,240 |  |
4 | 24,220 | 21,530 | 18,850 | $16,150 |
5 | 28,580 | 25,880 | 23,200 | 20,510 | $17,830
6 | 33,420 | 30,730 | 28,060 | 25,350 | 22,680

For each additional family member add $3,770.

For each additional college student subtract $2,680.

The income protection allowances for single independent students and independent students without dependents other than a spouse for award year 2008-2009 are:

Marital status | Number in college | IPA
Single | 1 | $6,220
Married | 2 | 6,220
Married | 1 | 9,970

2. Adjusted Net Worth (NW) of a Business or Farm. A portion of the full net value of a farm or business is excluded from the calculation of an expected contribution because—(1) The income produced from these assets is already assessed in another part of the formula; and (2) the formula protects a portion of the value of the assets. The portion of these assets included in the contribution calculation is computed according to the following schedule. This schedule is used for parents of dependent students, independent students without dependents other than a spouse, and independent students with dependents other than a spouse.

If the net worth of a business or farm is— | Then the adjusted net worth is—
Less than $1 | $0.
$1 to $110,000 | $0 + 40% of NW.
$110,001 to $330,000 | $44,000 + 50% of NW over $110,000.
$330,001 to $550,000 | $154,000 + 60% of NW over $330,000.
$550,001 or more | $286,000 + 100% of NW over $550,000.

3. Education Savings and Asset Protection Allowance. This allowance protects a portion of net worth (assets less debts) from being considered available for postsecondary educational expenses. There are three asset protection allowance tables—one for parents of dependent students, one for independent students without dependents other than a spouse, and one for independent students with dependents other than a spouse.

Dependent Students
| And they are
| Two parents | One parent
If the age of the student is | Then the education savings and asset protection allowance is—
25 or less | 0 | 0
26 | 2,600 | 1,100
27 | 5,100 | 2,100
28 | 7,700 | 3,200
29 | 10,200 | 4,300
30 | 12,800 | 5,300
31 | 15,400 | 6,400
32 | 17,900 | 7,500
33 | 20,500 | 8,500
34 | 23,000 | 9,600
35 | 25,600 | 10,700
36 | 28,200 | 11,700
37 | 30,700 | 12,800
38 | 33,300 | 13,900
39 | 35,800 | 14,900
40 | 38,400 | 16,000
41 | 39,300 | 16,400
42 | 40,300 | 16,700
43 | 41,300 | 17,100
44 | 42,300 | 17,600
45 | 43,400 | 17,900
46 | 44,500 | 18,300
47 | 45,600 | 18,800
48 | 46,700 | 19,200
49 | 47,900 | 19,700
50 | 49,000 | 20,100
51 | 50,500 | 20,500
52 | 51,800 | 21,000
53 | 53,300 | 21,500
54 | 54,600 | 22,100
55 | 56,300 | 22,600
56 | 57,600 | 23,200
57 | 59,300 | 23,700
58 | 61,100 | 24,400
59 | 62,900 | 25,000
60 | 64,700 | 25,700
61 | 66,600 | 26,300
62 | 68,500 | 27,000
63 | 70,800 | 27,800
64 | 72,800 | 28,500
65 or older | 75,200 | 29,300

Independent Students Without Dependents Other Than a Spouse
| And they are
| Married | Single
If the age of the student is | Then the education savings and asset protection allowance is—
25 or less | 0 | 0
26 | 2,600 | 1,100
27 | 5,100 | 2,100
28 | 7,700 | 3,200
29 | 10,200 | 4,300
30 | 12,800 | 5,300
31 | 15,400 | 6,400
32 | 17,900 | 7,500
33 | 20,500 | 8,500
34 | 23,000 | 9,600
35 | 25,600 | 10,700
36 | 28,200 | 11,700
37 | 30,700 | 12,800
38 | 33,300 | 13,900
39 | 35,800 | 14,900
40 | 38,400 | 16,000
41 | 39,300 | 16,400
42 | 40,300 | 16,700
43 | 41,300 | 17,100
44 | 42,300 | 17,600
45 | 43,400 | 17,900
46 | 44,500 | 18,300
47 | 45,600 | 18,800
48 | 46,700 | 19,200
49 | 47,900 | 19,700
50 | 49,000 | 20,100
51 | 50,500 | 20,500
52 | 51,800 | 21,000
53 | 53,300 | 21,500
54 | 54,600 | 22,100
55 | 56,300 | 22,600
56 | 57,600 | 23,200
57 | 59,300 | 23,700
58 | 61,100 | 24,400
59 | 62,900 | 25,000
60 | 64,700 | 25,700
61 | 66,600 | 26,300
62 | 68,500 | 27,000
63 | 70,800 | 27,800
64 | 72,800 | 28,500
65 or older | 75,200 | 29,300

Independent Students With Dependents Other Than a Spouse
| And they are
| Married | Single
If the age of the student is | Then the education savings and asset protection allowance is—
25 or less | 0 | 0
26 | 2,600 | 1,100
27 | 5,100 | 2,100
28 | 7,700 | 3,200
29 | 10,200 | 4,300
30 | 12,800 | 5,300
31 | 15,400 | 6,400
32 | 17,900 | 7,500
33 | 20,500 | 8,500
34 | 23,000 | 9,600
35 | 25,600 | 10,700
36 | 28,200 | 11,700
37 | 30,700 | 12,800
38 | 33,300 | 13,900
39 | 35,800 | 14,900
40 | 38,400 | 16,000
41 | 39,300 | 16,400
42 | 40,300 | 16,700
43 | 41,300 | 17,100
44 | 42,300 | 17,600
45 | 43,400 | 17,900
46 | 44,500 | 18,300
47 | 45,600 | 18,800
48 | 46,700 | 19,200
49 | 47,900 | 19,700
50 | 49,000 | 20,100
51 | 50,500 | 20,500
52 | 51,800 | 21,000
53 | 53,300 | 21,500
54 | 54,600 | 22,100
55 | 56,300 | 22,600
56 | 57,600 | 23,200
57 | 59,300 | 23,700
58 | 61,100 | 24,400
59 | 62,900 | 25,000
60 | 64,700 | 25,700
61 | 66,600 | 26,300
62 | 68,500 | 27,000
63 | 70,800 | 27,800
64 | 72,800 | 28,500
65 or older | 75,200 | 29,300

4. Assessment Schedules and Rates. Two schedules that are subject to updates, one for parents of dependent students and one for independent students with dependents other than a spouse, are used to determine the EFC toward educational expenses from family financial resources. For dependent students, the EFC is derived from an assessment of the parents' adjusted available income (AAI). For independent students with dependents other than a spouse, the EFC is derived from an assessment of the family's AAI. The AAI represents a measure of a family's financial strength, which considers both income and assets.

The parents' contribution for a dependent student is computed according to the following schedule:

If AAI is— | Then the contribution is—
Less than −$3,409 | −$750.
($3,409) to $13,700 | 22% of AAI.
$13,701 to $17,300 | $3,014 + 25% of AAI over $13,700.
$17,301 to $20,800 | $3,914 + 29% of AAI over $17,300.
$20,801 to $24,300 | $4,929 + 34% of AAI over $20,800.
$24,301 to $27,800 | $6,119 + 40% of AAI over $24,300.
$27,801 or more | $7,519 + 47% of AAI over $27,800.

The contribution for an independent student with dependents other than a spouse is computed according to the following schedule:

If AAI is— | Then the contribution is—
Less than −$3,409 | −$750.
($3,409) to $13,700 | 22% of AAI.
$13,701 to $17,300 | $3,014 + 25% of AAI over $13,700.
$17,301 to $20,800 | $3,914 + 29% of AAI over $17,300.
$20,801 to $24,300 | $4,929 + 34% of AAI over $20,800.
$24,301 to $27,800 | $6,119 + 40% of AAI over $24,300.
$27,801 or more | $7,519 + 47% of AAI over $27,800.

5. Employment Expense Allowance. This allowance for employment-related expenses, which is used for the parents of dependent students and for married independent students, recognizes additional expenses incurred by working spouses and single-parent households. The allowance is based upon the marginal differences in costs for a two-worker family compared to a one-worker family for food away from home, apparel, transportation, and household furnishings and operations.

The employment expense allowance for parents of dependent students, married independent students without dependents other than a spouse, and independent students with dependents other than a spouse is the lesser of $3,300 or 35 percent of earned income.

6. Allowance for State and Other Taxes. The allowance for State and other taxes protects a portion of the parents' and students' income from being considered available for postsecondary educational expenses. There are four categories for State and other taxes, one each for parents of dependent students, independent students with dependents other than a spouse, dependent students, and independent students without dependents other than a spouse. Section 478(g) of the HEA directs the Secretary to update the tables for State and other taxes after reviewing the Statistics of Income file data maintained by the Internal Revenue Service.

State | Parents of dependents and independents with dependents other than a spouse: Under $15,000 (percent) | Parents of dependents and independents with dependents other than a spouse: $15,000 & up (percent) | Dependents and independents without dependents other than a spouse: All (percent)
Alabama | 3 | 2 | 2
Alaska | 2 | 1 | 0
Arizona | 4 | 3 | 3
Arkansas | 4 | 3 | 3
California | 7 | 6 | 5
Colorado | 4 | 3 | 3
Connecticut | 7 | 6 | 4
Delaware | 4 | 3 | 3
District of Columbia | 7 | 6 | 6
Florida | 3 | 2 | 1
Georgia | 6 | 5 | 3
Hawaii | 4 | 3 | 4
Idaho | 5 | 4 | 3
Illinois | 5 | 4 | 2
Indiana | 4 | 3 | 3
Iowa | 5 | 4 | 3
Kansas | 5 | 4 | 3
Kentucky | 5 | 4 | 4
Louisiana | 3 | 2 | 2
Maine | 6 | 5 | 4
Maryland | 7 | 6 | 5
Massachusetts | 6 | 5 | 4
Michigan | 5 | 4 | 3
Minnesota | 6 | 5 | 4
Mississippi | 4 | 3 | 2
Missouri | 5 | 4 | 3
Montana | 5 | 4 | 3
Nebraska | 5 | 4 | 3
Nevada | 3 | 2 | 1
New Hampshire | 5 | 4 | 1
New Jersey | 8 | 7 | 4
New Mexico | 4 | 3 | 3
New York | 9 | 8 | 6
North Carolina | 6 | 5 | 4
North Dakota | 2 | 1 | 1
Ohio | 6 | 5 | 4
Oklahoma | 6 | 5 | 3
Oregon | 7 | 6 | 5
Pennsylvania | 5 | 4 | 3
Rhode Island | 7 | 6 | 4
South Carolina | 5 | 4 | 3
South Dakota | 2 | 1 | 1
Tennessee | 2 | 1 | 1
Texas | 3 | 2 | 1
Utah | 5 | 4 | 4
Vermont | 5 | 4 | 3
Virginia | 5 | 4 | 3
Washington | 4 | 3 | 2
West Virginia | 3 | 2 | 2
Wisconsin | 7 | 6 | 4
Wyoming | 2 | 1 | 1
Other | 3 | 2 | 2

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers: 84.007 Federal Supplemental Educational Opportunity Grant; 84.032 Federal Family Education Loan Program; 84.033 Federal Work-Study Program; 84.038 Federal Perkins Loan Program; 84.063 Federal Pell Grant Program; 84.268 William D. Ford Federal Direct Loan Program; 84.375 Academic Competitiveness Grant; 84.376 National Science and Mathematics Access to Retain Talent Grant)

Dated: May 29, 2007.
Theresa S. Shaw,
Chief Operating Officer, Federal Student Aid.

[FR Doc. E7-10621 Filed 5-31-07; 8:45 am]

BILLING CODE 4000-01-P